FEDERAL COMMUNICATIONS COMMISSION

Notice of Public Information Collection(s) Being Reviewed by the Federal Communications Commission, Comments Requested

September 8, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 14, 2000. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0757.

Title: FCC Auctions Customer Survey.

Form No.: N/A.

Type of Review: Extension of a currently approved collection.

Respondents: Individuals or households; Business or other for profit.

Number of Respondents: 2,000.

Estimate Hour Per Response: .25 hours per response (2,000 x .25 hrs = 500 hrs.).

Total Annual Burden: 500 hours.

Estimated Total Annual Costs: None.

Frequency of Response: Reporting; On occasion.

Needs and Uses: The information will be used by the Commission to evaluate the competitive bidding methodologies and other operational processes used to date and to improve these techniques for use in future auctions.

OMB Control No.: 3060-0774.

Title: Federal-State Joint Board on Universal Service, CC Docket No. 96-45 (47 CFR Part 54)

Form No.: N/A.

Type of Review: Extension.

Respondents: Business or Other for Profit; Not for Profit Institutions, State, Local or Tribal Government.

Number of Respondents: 5,735,638.

Estimated Time Per Response: .34 hrs (avg.).

Total Annual Burden: 1,984,119 Hours.

Estimated Annual Reporting and Recordkeeping Cost Burden: $0.

Frequency of Response: On occasion; Quarterly, Annually, Every five years, Third Party Disclosure, Recordkeeping .

Needs and Uses: Congress directed the Commission to implement a new set of universal service support mechanisms that are explicit and sufficient to advance the universal service principles enumerated in 47 U.S.C. Section 254 and other such principles as the Commission believes are necessary and appropriate for the protection of the public interest, convenience and necessity, and are consistent with the Act. Part 54 promulgates the rules and requirements to preserve and advance universal service. The collections are necessary to implement Section 254.

OMB Control No.: 3060-0810.

Title: Procedures for Designation of Eligible Telecommunications Carriers Pursuant to Section 214(e)(6) of the Communications Act of 1934, as amended.

Form No.: N/A.

Type of Review: Extension.

Respondents: Business or Other for Profit.

Number of Respondents: 110.

Estimated Time Per Response: 56.3 Hour (avg.).

Total Annual Burden: 6200 Hours.

Estimated Annual Reporting and Recordkeeping Cost Burden: $0.

Frequency of Response: On occasion; Third Party Disclosure.

Needs and Uses: 47 U.S.C. Section 214(e)(6) states that a telecommunications carrier that is not subject to the jurisdiction of a state may request that the Commission determine whether it is eligible. The Commission must evaluate whether such telecommunications carriers meet the eligibility criteria set forth in the Act, specified in the Public Notice, and also the Order issued in CC Docket 96-45 (FCC 00-208). Carriers seeking designation for service provided on non-tribal lands must provide an affirmative statement from a court of competent jurisdiction or the state commission that the state lacks jurisdiction over the carrier.

Federal Communications Commission.
Magalie Roman Salas,
Secretary.

[FR Doc. 00-23690 Filed 9-14-00; 8:45 am]

BILLING CODE 6712-01-P